DEPARTMENT OF COMMERCE

National Oceanic and Atmospheric Administration

[RTID 0648-XC466]

Mid-Atlantic Fishery Management Council (MAFMC); Public Hearings

AGENCY: National Marine Fisheries Service (NMFS), National Oceanic and Atmospheric Administration (NOAA), Commerce.

ACTION: Notice; public hearings and request for comments.

SUMMARY: The Mid-Atlantic Fishery Management Council (Council) will hold three public hearings (one as a webinar) and accept written comments regarding an action intended to revise the species separation requirements in the Atlantic surfclam and ocean quahog fisheries.

DATES: The hearings will be held between November 10, 2022 and November 17, 2022. Written comments must be received by November 23, 2022. See SUPPLEMENTARY INFORMATION for details, including the dates and times for all hearings.

ADDRESSES: See SUPPLEMENTARY INFORMATION for hearing details.

Council address: Mid-Atlantic Fishery Management Council, 800 N. State Street, Suite 201, Dover, DE 19901; telephone: (302) 674-2331; www.mafmc.org.

Written comments may be submitted to:

• Email to: jcoakley@mafmc.org (use subject “SCOQ Species Separation”)

• Via webform at: https://www.mafmc.org/comments/scoq-species-separation

• Mail to: Chris Moore, Ph.D., Executive Director, Mid-Atlantic Fishery Management Council, 800 North State Street, Suite 201, Dover, DE 19901. Mark the outside of the envelope “SCOQ Species Separation.”

FOR FURTHER INFORMATION CONTACT: Christopher M. Moore, Ph.D., Executive Director, Mid-Atlantic Fishery Management Council, telephone: (302) 526-5255.

SUPPLEMENTARY INFORMATION: The Council will hold three public hearings and accept written comments regarding an action intended to modify the current species separation requirements in the Atlantic surfclam and ocean quahog fisheries. Additional details, including the public hearing document can be found at: https://www.mafmc.org/actions/scoq-species-separation.

Hearing 1—Philadelphia, Pennsylvania. Thursday, November 10, 2022. 6:30 p.m.-9:30 p.m., Embassy Suites Philadelphia Airport. 9000 Bartram Avenue, Philadelphia, PA 19153, telephone: (215) 365-4500;

Hearing 2—Fall River, Massachusetts. Monday, November 14, 2022. 6:30 p.m.-9:30 p.m., Hampton Inn. 53 Old Bedford Road, Westport, MA 02790, telephone: (508) 675-8500; and

Hearing 3—Webinar: Thursday, November 17, 2022. 6 p.m.-9 p.m. Connection details can be found at the Council's website calendar or https://www.mafmc.org/actions/scoq-species-separation.

Written comments are accepted at the hearings or via the submission methods described above, by November 23, 2022.

Special Accommodations

These meetings are physically accessible to people with disabilities. Requests for sign language interpretation or other auxiliary aid should be directed to Shelley Spedden, (302) 526-5251, at least 5 days prior to the meeting date.

Authority: 16 U.S.C. 1801 et seq.

Dated: October 17, 2022.
Rey Israel Marquez,
Acting Deputy Director, Office of Sustainable Fisheries, National Marine Fisheries Service.

[FR Doc. 2022-22809 Filed 10-19-22; 8:45 am]

BILLING CODE 3510-22-P